DEPARTMENT OF COMMERCE

National Oceanic and Atmospheric Administration

Proposed Information Collection; Comment Request: Socioeconomics of Ocean Recreation Operations in the Monterey Bay, Greater Farallones and Cordell Bank National Marine Sanctuaries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 3, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Danielle Schwarzmann 240-533-0705 danielle.schwarzmann@noaa.gov.

SUPPLEMENTARY INFORMATION:

I. Abstract

This request is for a new information collection to benefit natural resource managers in Greater Farallones National Marine Sanctuary (GFNMS), Cordell Bank National Marine Sanctuary (CBNMS) and the Monterey Bay National Marine Sanctuary (MBNMS). The National Ocean Service (NOS), Office of National Marine Sanctuaries (ONMS) proposes to collect information from wildlife watching operations to ascertain the market value of marine wildlife via the ocean recreational industry in the region that serves passengers aboard their vessels that take people out for non-consumptive recreation in and around the three sanctuaries.

Up-to-date socioeconomic data is needed to support the conservation and management goals of GFNMS, CBNMS and MBNMS to strengthen and improve conservation of marine wildlife, including whales, pinnipeds, sea otters, and seabirds within the jurisdiction of the sanctuary and to satisfy legal mandates under the National Marine Sanctuaries Act (16 U.S.C. 1431 et seq), Endangered Species Act (16 U.S.C. 1531 et seq), Marine Mammal Protection Act (16 U.S.C. 1361 et seq), National Environmental Policy Act (42 U.S.C. 4321), Executive Order 12866 (EO 12866), and other pertinent statutes.

GFNMS, CBNMS and MBNMS have identified a lack of baseline socioeconomic information on ocean recreation businesses. The information is not available to assess the possible economic benefits of marine wildlife protection to the local economy, or the potential impact on ocean recreation businesses. The type of data targeted for this collection; that is, information on costs and earnings from the marine wildlife watching industry, are only currently available for recreational and commercial fishing. Thus, current economic information on the importance of marine wildlife to the local tourism industry is required. We already have approval for the survey of for hire operations in MBNMS under OMB Control No. 0648-0726. The primary focus for this survey will be to gather data on the non-consumptive, market value of marine wildlife. Specifically, researchers will collect data to determine the contribution of marine wildlife watching operations to the economy in the regions.

A second component of the proposed research is the survey of passengers of the for hire operations. The primary focus of this survey is to obtain demographic profiles of users, spending on wildlife viewing trips to estimate the economic impact/contribution to the local economy and the non-market economic value of the use and how those values change with changes in user and natural resource attributes. This information will be required for all three sanctuaries.

II. Method of Collection

For the for hire operations, a research team goes into the business to fill-out forms using records provided by the businesses and answers to questions in a face-to-face interview.

For passengers aboard the operations vessels, respondents have a choice of either electronic or paper forms. Methods of submittal include email of electronic forms, and mail and facsimile transmission of paper forms.

III. Data

OMB Control Number: 0648-XXXX.

Form Number: None.

Type of Review: Regular submission (request for a new information collection).

Affected Public: For profit organizations; individuals or households.

For-Hire Operation Survey:

Estimated Number of Respondents: 30.

Estimated Time per Response: 2.5 hours per survey

Estimated Total Annual Burden Hours: 75 hours.

Passenger Survey:

Estimated Number of Respondents Survey: 3,000.

Total Annual Burden Hours All Surveys: 2,120 hours.

Estimated Total Annual Cost to Public: Other than burden hours there will be no cost to the public.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 27, 2016.
Sarah Brabson,
NOAA PRA Clearance Officer.

[FR Doc. 2016-18195 Filed 8-1-16; 8:45 am]

BILLING CODE 3510-NK-P